ENVIRONMENTAL PROTECTION AGENCY

[OAR-2002-0073; FRL-7963-3]

Agency Information Collection Activities; Submission to OMB for Review and Approval; Comment Request; Recordkeeping and Periodic Reporting of the Production, Import, Export, Recycling, Destruction, Transhipment, and Feedstock Use of Ozone-Depleting Substances (Renewal), EPA ICR Number 1432.25, OMB Control Number 2060-0170

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on August 31, 2005. This ICR describes the nature of the information collection and its estimated burden and cost.

DATES: Additional comments may be submitted on or before September 30, 2005.

ADDRESSES: Submit your comments, referencing docket ID number OAR-2002-0073, to (1) EPA online using EDOCKET (our preferred method), by e-mail to a-and-r-Docket@epa.gov, or by mail to: Environmental Protection Agency, EPA Docket Center (EPA/DC), Air and Radiation Docket and Information Center, Mail Code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Kirsten M. Cappel, Office of Atmospheric Programs, Stratospheric Protection Division, Mail Code 6205J, Environmental Protection Agency, 1200 Pennsylvania Avenue, NW., Washington, DC 20460; telephone number: (202) 343-9556; fax number: (202) 343-2338; e-mail address: cappel.kirsten@epa.gov.

SUPPLEMENTARY INFORMATION: EPA has submitted the following ICR to OMB for review and approval according to the procedures prescribed in 5 CFR 1320.12. On June 14th, 2005 (70 FR 34470) EPA sought comments on this ICR pursuant to 5 CFR 1320.8(d). EPA received no comments.

EPA has established a public docket for this ICR under Docket ID No. OAR-2002-0073 which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Recordkeeping and Periodic Reporting of the Production, Import, Export, Recycling, Destruction, Transhipment, and Feedstock Use of Ozone-Depleting Substances (Renewal)

Abstract: The international treaty The Montreal Protocol on Substances that Deplete the Ozone and Title VI of the Clean Air Act (CAA) established limits on total United States (U.S.) production, import, and export of class I and class II controlled ozone depleting substances (ODS). Under its Protocol commitments, the United States is obliged to cease production and import of class I controlled substances with exemptions for essential uses, critical uses, previously used material, and material that will be transformed, destroyed, or exported to developing countries. The Protocol also establishes limits and reduction schedules leading to the eventual phaseout of class II controlled substances with similar exemptions beyond the phaseout. Additionally, the CAA has its own limits on production and consumption of controlled substances that EPA must adhere to and enforce.

To ensure the United States compliance with the limits and restrictions established by the Protocol and the CAA, the ODS phaseout regulations establish control measures for individual companies. The limits and restrictions for individual United States companies are monitored by EPA through the recordkeeping and reporting requirements established in the regulations stated in 40 CFR part 82, subpart A. To submit required information, regulated entities can download reporting forms from EPA's stratospheric ozone Web site (http://www.epa.gov/ozone/record.index.html), complete them, and then send them to EPA via U.S. Mail or fax. Upon receipt of the reports, the data is entered and subsequently stored in the Stratospheric Protection Tracking System (Tracking System). The Tracking System is a secure database that maintains all of the data that is submitted to EPA and allows the Agency to: (1) Maintain control over total production and consumption of controlled substances to satisfy conditions of the CAA and fulfill the United States obligations under the Protocol; (2) monitor compliance with limits and restrictions on production, imports, exports, and specific exemptions to the phaseout for individual U.S. companies; and (3) enforce against illegal imports and violations related to the control of class I and class II substances. Additionally, reporting on the exemptions permits an entity to retain the benefit of being able to produce or import a controlled class I ODS beyond the date of complete phaseout.

EPA is developing an electronic reporting system through the Agency's Central Data Exchange (CDX) that will allow regulated entities to download, complete, and submit reports electronically. Electronic reporting is expected to make the reporting process more effective and efficient for reporting companies and EPA. When electronic reporting becomes available, EPA will change its guidance document and its ICR to indicate a reduction in burden hours.

Pursuant to regulations 40 CFR part 2, subpart B, reporting businesses are entitled to assert a business confidentiality claim covering any part of the submitted business information as defined in 40 CFR 2.201(c).

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average about seven hours per response per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Persons that produce, import, export, destroy, transform as a feedstock, distribute, or apply controlled ODS.

Estimated Number of Respondents: 1,138.

Frequency of Response: On occasion, quarterly, and annually (as applicable).

Estimated Total Annual Hour Burden: 8,370.

Estimated Total Annual Cost: $714,160, which includes $0 annualized capital/startup costs, $5,580 annual O&M costs, and $708,520 annual labor costs.

Changes in the Estimates: There is a decrease of 1,567 hours in the total estimated burden currently identified in the OMB Inventory of Approved ICR Burdens. This decrease is largely attributed to the reduction of the number of responses and respondents. The decrease in Agency hours is due to the longevity of the regulatory program and its implementation. Estimates have also been refined based on historical information.

Dated: August 25, 2005.
Oscar Morales,
Director, Collection Strategies Division.

[FR Doc. 05-17362 Filed 8-30-05; 8:45 am]

BILLING CODE 6560-50-P